DEPARTMENT OF TRANSPORTATION

Surface Transportation Board

[Docket No. FD 30186 (Sub-No. 3)]

Tongue River Railroad Company, Inc.—Construction and Operation—Western Alignment

ACTION: Notice of the re-opening of the Programmatic Agreement process to update and revise the existing Programmatic Agreement.

SUMMARY: The Surface Transportation Board's (Board's) Office of Environmental Analysis (OEA) (formerly the Section of Environmental Analysis or SEA) prepared a Programmatic Agreement (PA) as the final step in the Section 106 process under the National Historic Preservation Act for Tongue River Railroad Company's (TRRC) application to construct and operate a rail line in southeastern Montana. A final decision authorizing TRRC's construction and operation was issued in October, 2007.

The PA was prepared in consultation with the Section 106 signatory and concurring parties and was executed in November, 2005. The PA expired on November 1, 2010, after an initial term of five years. An Amendment to the PA has been executed by all signatory parties extending the existing PA through September 1, 2011, to allow time to update and revise it.

The revision would take into consideration the designation of the Wolf Mountain Battlefield as a National Historic Landmark on October 26, 2008. Several Federally recognized Tribes have notified the Board of their interest in being included in the consultation process. The Tribes are concerned about impacts related to the rail line construction and operation on Wolf Mountain Battlefield. The alignment approved by the Board in its October 2007 decision runs through the eastern portion of that site.

OEA has recently invited the United States Department of the Interior (National Historic Landmarks Program) and additional Tribes that may have an interest in the project area to participate in the PA consultation process. With this notice, we now invite any other interested parties to participate in the PA consultation process. The updated PA must be executed by September 1, 2011. OEA proposes the following timeline:

February 1, 2011—Inform the public by Federal Register notice of the re-opening of the PA process and seek comment from the public (45-day comment period). Transmit a Word version of the existing PA to current and newly designated consulting parties seeking comment, with suggested changes and edits to the existing PA to OEA within 45 days.

March 18—End of public and consulting party comment period.

March 18—April 15—OEA internal review of comments received and revision of the PA in consultation with consulting parties, as appropriate.

May 2—OEA transmits revised PA, which addresses concerns, to consulting parties and members of the public that have shown an interest, for 30-day comment period.

June 1-15—OEA internal review of comments received and revision of the PA in consultation with consulting parties, as appropriate.

June 15—Final PA sent to consulting parties for a 15-day review period.

July 1—Target date for execution of revised PA.

Comments: OEA welcomes at this time any general comments you may have regarding the Board's Section 106 review process for this project, as well as specific comments you may have regarding the revision of the existing PA and OEA's proposed timeline. Comments may be filed electronically via the Board's Web site, http://www.stb.dot.gov, by clicking on the “E-FILING” link. Comments may also be submitted by e-mail to Kenneth Blodgett at blodgettk@stb.dot.gov or by general delivery to:

Kenneth Blodgett, Surface Transportation Board, Office of Environmental Analysis, 395 E St., SW., Washington, DC 20423.

Please submit all comments by March 18, 2011 and refer to Docket No. FD 30186 (Sub-No. 3) in all correspondence addressed to the Board.

The existing PA and the Amendment to the PA can be viewed on the Board's Web site at “Key Cases” under “Environmental Matters.” Contact Kenneth Blodgett at 202-245-0305 with any questions.

Decided: January 25, 2011.
By the Board.
Victoria Rutson,
Director, Office of Environmental Analysis.
Andrea Pope-Matheson,
Clearance Clerk.

[FR Doc. 2011-1876 Filed 1-31-11; 8:45 am]

BILLING CODE 4915-01-P